DEPARTMENT OF THE INTERIOR

Bureau of Land Management

[LLOR936000.L1440000.ET0000.16XL1109AF; HAG 16-0207]

Notice of Amended Proposed Withdrawal and Notice of Public Meetings; Oregon; Correction

AGENCY: Bureau of Land Management, Interior.

ACTION: Notice; correction.

SUMMARY: This notice corrects a notice that was published in the Federal Register on September 30, 2016 (81 FR 67377), which misidentified the Department of the Interior official who approved an amendment to a previously filed withdrawal application.

FOR FURTHER INFORMATION CONTACT: Jacob Childers, Oregon State Office, Bureau of Land Management, at 503-808-6225 or by email jcchilders@blm.gov, or Candice Polisky, USFS Pacific Northwest Region, at 503-808-2479. Persons who use a telecommunications device for the deaf (TDD) may call the Federal Relay Service (FRS) at 1-800-877-8339 to reach either of the above individuals. The FRS is available 24 hours a day, 7 days a week, to leave a message or question with the above individuals. You will receive a reply during normal business hours.

SUPPLEMENTARY INFORMATION: A notice that was published in the Federal Register on September 30, 2016 (81 FR 67377), misidentified the Department of the Interior official who approved an amendment to a previously filed withdrawal application. Page 67377, line 11, in the SUMMARY section reads:

The Assistant Secretary of the Interior for Land and Minerals Management has approved an amendment to a previously filed application to withdraw public domain and Revested Oregon California Railroad lands (O&C) managed by the Bureau of Land Management (BLM) and National Forest System (NFS) lands managed by the U.S. Forest Service (Forest Service) while Congress considers legislation to permanently withdraw those lands.

The notice is hereby corrected to read:

The Deputy Secretary of the Interior has approved an amendment to a previously filed application to withdraw public domain and Revested Oregon California Railroad lands (O&C) managed by the Bureau of Land Management (BLM) and National Forest System (NFS) lands managed by the U.S. Forest Service (Forest Service) while Congress considers legislation to permanently withdraw those lands.

Leslie A. Frewing,
Chief, Branch of Land, Minerals, and Energy Resources. Acting.

[FR Doc. 2016-26459 Filed 11-1-16; 8:45 am]

BILLING CODE 4310-84-P